NATIONAL AERONAUTICS AND SPACE ADMINISTRATION

[Notice: (05-037)]

Notice of Agency Report Forms Under OMB Review

AGENCY: National Aeronautics and Space Administration (NASA).

SUMMARY: The National Aeronautics and Space Administration, as part of its continuing effort to reduce paperwork and respondent burden, invites the general public and other Federal agencies to take this opportunity to comment on proposed and/or continuing information collections, as required by the Paperwork Reduction Act of 1995 (Pub. L. 104-13, 44 U.S.C. 3506(c)(2)(A)).

DATES: All comments should be submitted within 60 calendar days from the date of this publication.

ADDRESSES: All comments should be addressed to Ms. Kathleen Shaeffer, Mail Suite 6M70, National Aeronautics and Space Administration, Washington, DC 20546-0001.

FOR FURTHER INFORMATION CONTACT: Ms. Kathleen Shaeffer, Acting NASA Reports Officer, (202) 358-1230.

Title: NASA Acquisition Process—Reports Required On Contracts Valued of Less Than $500K.

SUPPLEMENTARY INFORMATION:

I. Abstract

The National Aeronautics and Space Administration (NASA) is requesting renewal of an existing collection that enables monitoring of contracts valued at less than $500K. The collection is prescribed in the NASA Federal Acquisition Regulation Supplement and approved mission statements.

II. Method of Collection

NASA collects this information electronically where feasible, but information may also be collected by mail or fax.

III. Data

Title: NASA Acquisition Process—Reports Required Under Contracts With a Value of Less Than $500K.

OMB Number: 2700-0088.

Type of Review: Extension of a currently approved collection.

Affected Public: Business or other for-profit; Not-for-profit institutions; State, Local or Tribal Government.

Estimated Number of Respondents: 956.

Estimated Time Per Response: 28 hours.

Estimated Total Annual Burden Hours: 803,040.

Estimated Total Annual Cost: $0.

IV. Request for Comments

Comments are invited on: (1) Whether the proposed collection of information is necessary for the proper performance of the functions of NASA, including whether the information collected has practical utility; (2) the accuracy of NASA's estimate of the burden (including hours and cost) of the proposed collection of information; (3) ways to enhance the quality, utility, and clarity of the information to be collected; and (4) ways to minimize the burden of the collection of information on respondents, including automated collection techniques or the use of other forms of information technology.

Comments submitted in response to this notice will be summarized and included in the request for OMB approval of this information collection. They will also become a matter of public record.

Dated: February 28, 2005.
Patricia L. Dunnington,
Chief Information Officer.

[FR Doc. 05-4512 Filed 3-7-05; 8:45 am]

BILLING CODE 7510-13-P